DEPARTMENT OF TRANSPORTATION

Federal Aviation Administration

14 CFR Part 71

[Docket No. FAA-2016-9476; Airspace Docket No. 16-AWP-28]

Proposed Establishment of Class E Airspace, Sacramento, CA

AGENCY: Federal Aviation Administration (FAA), DOT.

ACTION: Notice of Proposed Rulemaking (NPRM).

SUMMARY: This action proposes to establish Class E en route airspace extending upward from 1,200 feet above the surface to accommodate Instrument Flight Rules (IFR) aircraft under control of the Oakland Air Route Traffic Control Center (ARTCC), centered near Sacramento, CA. Establishment of this airspace area would ensure controlled airspace exists in those areas where the Federal airway structure is inadequate.

DATES: Comments must be received on or before April 27, 2017.

ADDRESSES: Send comments on this proposal to the U.S. Department of Transportation, Docket Operations, 1200 New Jersey Avenue SE., West Building Ground Floor, Room W12-140, Washington, DC 20590; telephone: 1-800-647-5527, or (202) 366-9826. You must identify FAA Docket No. FAA-2016-9476; Airspace Docket No. 16-AWP-28, at the beginning of your comments. You may also submit comments through the Internet at http://www.regulations.gov. You may review the public docket containing the proposal, any comments received, and any final disposition in person in the Dockets Office between 9:00 a.m. and 5:00 p.m., Monday through Friday, except federal holidays.

FAA Order 7400.11A, Airspace Designations and Reporting Points, and subsequent amendments can be viewed online at http://www.faa.gov/air_traffic/publications/. For further information, you can contact the Airspace Policy Group, Federal Aviation Administration, 800 Independence Avenue SW., Washington, DC 20591; telephone: 202-267-8783. The Order is also available for inspection at the National Archives and Records Administration (NARA). For information on the availability of FAA Order 7400.11A at NARA, call 202-741-6030, or go to http://www.archives.gov/federal_register/code_of_federal-regulations/ibr_locations.html.

FAA Order 7400.11, Airspace Designations and Reporting Points, is published yearly and effective on September 15.

FOR FURTHER INFORMATION CONTACT: Tom Clark, Federal Aviation Administration, Operations Support Group, Western Service Center, 1601 Lind Avenue SW., Renton, WA 98057; telephone (425) 203-4511.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would establish Class E en route airspace at Sacramento, CA, to ensure controlled airspace exists in those areas where the Federal airway structure is inadequate.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Persons wishing the FAA to acknowledge receipt of their comments on this notice must submit with those comments a self-addressed, stamped postcard on which the following statement is made: “Comments to Docket No. FAA-2016-9476/Airspace Docket No. 16-AWP-28.” The postcard will be date/time stamped and returned to the commenter.

All communications received before the specified closing date for comments will be considered before taking action on the proposed rule. The proposal contained in this notice may be changed in light of the comments received. A report summarizing each substantive public contact with FAA personnel concerned with this rulemaking will be filed in the docket.

Availability of NPRMs

An electronic copy of this document may be downloaded through the Internet at http://www.regulations.gov. Recently published rulemaking documents can also be accessed through the FAA's Web page at http://www.faa.gov/air_traffic/publications/airspace_amendments/.

You may review the public docket containing the proposal, any comments received, and any final disposition in person in the Dockets Office (see the “ADDRESSES” section for the address and phone number) between 9:00 a.m. and 5:00 p.m., Monday through Friday, except federal holidays. An informal docket may also be examined during normal business hours at the Northwest Mountain Regional Office of the Federal Aviation Administration, Air Traffic Organization, Western Service Center, Operations Support Group, 1601 Lind Avenue SW., Renton, WA 98057.

Availability and Summary of Documents Proposed for Incorporation by Reference

This document proposes to amend FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

Background

Current airspace design is primarily based on airport terminal areas and airways, often leaving small areas of uncontrolled airspace between airports. Class E en route domestic airspace provides controlled airspace in those areas where there is a requirement to provide IFR en route air traffic control services but the Federal airway structure is inadequate.

Numerous smaller Class E en route areas have been established to provide controlled airspace where the airway structure is inadequate; however, as aging ground-based navigation aids are removed from service, the airway structure is reduced, uncovering larger areas of uncontrolled airspace. This action would provide the airway structure necessary for the safe and efficient flow of aircraft within the National Airspace System (NAS).

The Proposal

The FAA is proposing an amendment to Title 14 Code of Federal Regulations (14 CFR) Part 71 to establish Class E en route airspace extending upward from 1,200 feet above the surface centered near Sacramento, CA, to support en route IFR operations where the airway structure is inadequate. The en route airspace area would extend from the southern border of the Rogue Valley en route airspace area near Redding, CA, west to include that airspace within 12 miles of the shore line, south to the southern boundary of the Oakland Air Route Traffic Control Center near Monterey, CA, east to the western boundary of the Coaldale en route airspace area, and northeast to near Reno, NV. This proposal would allow the most efficient routing between airports without reducing margins of safety or requiring additional coordination and pilot/controller workload. This action is necessary to ensure the safety and management of controlled airspace within the NAS as it transitions from ground based navigation aids to satellite-based Global Navigation Satellite System for navigation.

Class E airspace designations are published in paragraph 6006 of FAA Order 7400.11A, dated August 3, 2016, and effective September 15, 2016, which is incorporated by reference in 14 CFR 71.1. The Class E airspace designations listed in this document will be published subsequently in the Order.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, and effective September 15, 2016, is amended as follows:

Paragraph 6006 En Route Domestic Airspace Areas.

* * * * *

AWP CA E6 Sacramento, CA [New]

That airspace extending upward from 1,200 feet above the surface within an area bounded by a line beginning at lat. 39°05′16″ N., long. 124°05′00″ W.; to lat. 38°50′52″ N., long. 123°58′27″ to lat. 37°55′05″ N., long. 123°16′37″ W.; to lat. 37°05′15″ N., long. 122°43′32″ W.; to lat. 36°06′41″ N., long. 122°02′23″ W.; to lat. 35°36′08″ N., long. 121°31′31″ W.; to lat. 35°22′02″ N., long. 121°13′48″ W.; to lat. 35°32′00″ N., long. 120°51′00″ W.; to lat. 36°45′00″ N., long. 120°07′00″ W.; to lat. 35°38′00″ N., long. 119°30′00″ W.; to lat. 36°08′00″ N., long. 119°10′00″ W.; to lat. 36°08′00″ N., long. 118°52′00″ W.; to lat. 37°47′57″ N., long. 120°22′00″ W.; to lat. 38°53′30″ N., long. 119°49′00″ W.; to lat. 39°39′28″ N., long. 117°59′55″ W.; to lat. 40°27′51″ N., long. 119°37′10″ W.; to lat. 39°33′53″ N., long. 120°19′02″ W.; thence to the point of beginning, excluding that airspace offshore beyond 12 miles from the shoreline.

Issued in Seattle, Washington, on March 1, 2017.
Tracey Johnson,
Manager, Operations Support Group, Western Service Center.

[FR Doc. 2017-04783 Filed 3-10-17; 8:45 am]

BILLING CODE 4910-13-P